DEPARTMENT OF DEFENSE

Department of the Army

Notice of Intent To Grant Exclusive Patent License; Martin Marietta Composites, Inc.

AGENCY: Department of the Army, DoD.

ACTION: Notice of intent.

SUMMARY: In compliance with 37 CFR 404 et seq., the Department of the Army hereby gives notice of its intent to grant to Martin Marietta Composites, Inc., a corporation having its principle place of business at 2700 Wycliff Road, Raleigh, NC 27622-0013, exclusive license to practice in the United States, the Government-owned invention described in US Patent 6,586,054 issued July 1, 2003 entitled, “Apparatus and method for selectively distributing and controlling a means for impregnation of fibrous articles”.

DATES: Anyone wishing to object to the grant of this license file written objections along with supporting evidence, if any, not later than 15 days from the date of this notice.

ADDRESSES: Send written objections to Michael D. Rausa, U.S. Army Research Laboratory, Office of Research and Technology Applications, ATTN: AMSRD-ARL-DP-T/Bldg. 454, Aberdeen Proving Ground, MD 21005-5425.

FOR FURTHER INFORMATION CONTACT: Michael D. Rausa, telephone (410) 278-5028.

SUPPLEMENTARY INFORMATION: None.

Brenda S. Bowen,
Army Federal Register Liaison Officer.

[FR Doc. 05-24189 Filed 12-16-05; 8:45 am]

BILLING CODE 3710-08-M